CONSUMER PRODUCT SAFETY COMMISSION

[Docket No. CPSC-2012-0024]

Submission for OMB Review; Comment Request—Coal and Woodburning Appliances

AGENCY: Consumer Product Safety Commission.

ACTION: Notice.

SUMMARY: In the Federal Register of May 3, 2012 (74 FR 26253), the Consumer Product Safety Commission (CPSC or Commission) published a notice in accordance with provisions of the Paperwork Reduction Act of 1995 (44 U.S.C. Chapter 35), to announce the CPSC's intention to seek extension of approval of a collection of information for regulations on coal and woodburning appliances. No comments were received in response to that notice. Therefore, by publication of this notice, the Commission announces that it has submitted to the Office of Management and Budget (OMB) a request for extension of approval of this collection of information, without change.

ADDRESSES: To ensure that comments on the information collection are received, the OMB recommends that written comments be faxed to the Office of Information and Regulatory Affairs, OMB, Attn: CPSC Desk Officer, Fax: 202-395-6974, or emailed to oira_submission@omb.eop.gov. All comments should be identified by Docket No. CPSC-2010-0024. In addition, written comments also should be submitted at http://www.regulations.gov, under Docket No. CPSC-2010-0024, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Mary K. James, Office of Information Technology, U.S. Consumer Product Safety Commission,4330 East West Highway, Bethesda, MD 20814; telephone 301-504-7213 or by email to mjames@cpsc.gov.

SUPPLEMENTARY INFORMATION: Request for Reinstatement of Approval of Collection of Information. Existing manufacturers of coal and woodburning appliances who are subject to the information collection requirements may introduce up to 15 new models in a 3-year period, or approximately five new models per year. No new manufacturers are expected to begin marketing in the United States. The average number of hours per respondent is estimated at 3 hours per year, for a total of about 15 hours of annual burden for all respondents (5 models × 3 hours). No specific label design is required, but examples of acceptable label formats are provided in the rule. It is assumed that each manufacturer will use the same general label format for all stove models it produces. Therefore, when a manufacturer introduces a new stove model, the only changes that will be required are to insert the specific information that pertains to the new model. Additionally, manufacturers are to provide the Commission with copies of the information required to be disclosed on the label. Because this information should be readily available, it should take a manufacturer 30 minutes or less, per model, to collect the information and mail it to the Commission. Therefore, an additional 2.5 hours have been added to the total burden (30 minutes × 5 models per year) for a total annual burden of 17.5 hours. The total estimated annualized respondent cost is approximately $1,044, based on an average total hourly employee compensation rate of $59.63 for management, professional, and related occupations (17.5 hours × $59.63) (Bureau of Labor Statistics, September 2011).

Dated: August 9, 2012.
Todd A. Stevenson,
Secretary, Consumer Product Safety Commission.

[FR Doc. 2012-19880 Filed 8-13-12; 8:45 am]

BILLING CODE 6355-01-P